ENVIRONMENTAL PROTECTION AGENCY

[FRL-6578-7]

Lyman Dyeing and Finishing Superfund Site; Notice of Proposed Settlement

AGENCY: Environmental Protection Agency.

ACTION: Notice of proposed settlement.

SUMMARY: The United States Environmental Protection Agency is proposing to enter into a settlement for the partial reimbursement of past response costs with Springs Industries, Inc. pursuant to section 122 of the Comprehensive Environmental Response, Compensation, and Liability Act (CERCLA), 42 U.S.C. 9622(h)(1) concerning the Lyman Dyeing and Finishing Superfund Site (Site) located in Lyman, Spartanburg County, South Carolina. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4, (WMD-CPSB), 61 Forsyth Street, SW., Atlanta, Georgia 30303, (404) 562-8887. Written comments may be submitted to Ms. Batchelor within 30 calendar days of the date of this publication.

Dated: March 29, 2000.
Franklin E. Hill,
Chief, CERCLA Program Services Branch, Waste Management Division.

[FR Doc. 00-9237 Filed 4-12-00; 8:45 am]

BILLING CODE 6560-50-P